DEPARTMENT OF ENERGY

Federal Energy Regulatory Commission

Combined Notice of Filings

Take notice that the Commission has received the following Natural Gas Pipeline Rate and Refund Report filings:

Filings Instituting Proceedings

Docket Numbers: RP22-675-000.

Applicants: UGI Mt. Bethel Pipeline Company, LLC.

Description: Annual Retainage Mechanism Filing for 2021 of UGI Mt. Bethel Pipeline Company, LLC.

Filed Date: 2/28/22.

Accession Number: 20220228-5464.

Comment Date: 5 p.m. ET 3/14/22.

Docket Numbers: RP22-680-000.

Applicants: PGPipeline LLC.

Description: Compliance filing: PGPipeline LLC NAESB Compliance Filing to be effective 6/1/2022.

Filed Date: 3/8/22.

Accession Number: 20220308-5030.

Comment Date: 5 p.m. ET 3/21/22.

Docket Numbers: RP22-682-000.

Applicants: Alliance Pipeline L.P.

Description: § 4(d) Rate Filing: Alliance Housekeeping Filing to be effective 4/9/2022.

Filed Date: 3/9/22.

Accession Number: 20220309-5008.

Comment Date: 5 p.m. ET 3/21/22.

Docket Numbers: RP22-683-000.

Applicants: Midcontinent Express Pipeline LLC.

Description: Compliance filing: Midcontinent Express Pipeline LLC submits tariff filing per 154.203: Annual Report of Operational Purchases and Sales 2022 to be effective N/A.

Filed Date: 3/9/22.

Accession Number: 20220309-5019.

Comment Date: 5 p.m. ET 3/21/22.

Docket Numbers: RP22-684-000.

Applicants: Natural Gas Pipeline Company of America LLC.

Description: § 4(d) Rate Filing: Negotiated Rate Agreements Filing—Conexus Energy, LLC to be effective 4/1/2022.

Filed Date: 3/9/22.

Accession Number: 20220309-5024.

Comment Date: 5 p.m. ET 3/21/22.

Docket Numbers: RP22-685-000.

Applicants: Natural Gas Pipeline Company of America LLC.

Description: § 4(d) Rate Filing: Natural Gas Pipeline Company of America LLC submits tariff filing per 154.204: Negotiated Rate Agreement Filing—ConocoPhillips Company to be effective 4/1/2022.

Filed Date: 3/9/22.

Accession Number: 20220309-5026.

Comment Date: 5 p.m. ET 3/21/22.

Docket Numbers: RP22-686-000.

Applicants: Natural Gas Pipeline Company of America LLC.

Description: § 4(d) Rate Filing: Negotiated Rate Agreement Filing—Freepoint Commodities LLC to be effective 4/1/2022.

Filed Date: 3/9/22.

Accession Number: 20220309-5028.

Comment Date: 5 p.m. ET 3/21/22.

Docket Numbers: RP22-687-000.

Applicants: Natural Gas Pipeline Company of America LLC.

Description: § 4(d) Rate Filing: Natural Gas Pipeline Company of America LLC submits tariff filing per 154.204: Negotiated Rate Agreement Filing—Hartree Partners, LP to be effective 4/1/2022.

Filed Date: 3/9/22.

Accession Number: 20220309-5031.

Comment Date: 5 p.m. ET 3/21/22.

Any person desiring to intervene or protest in any of the above proceedings must file in accordance with Rules 211 and 214 of the Commission's Regulations (18 CFR 385.211 and 385.214) on or before 5:00 p.m. Eastern time on the specified Comment date. Protests may be considered, but intervention is necessary to become a party to the proceeding.

Filings in Existing Proceedings

Docket Numbers: RP22-633-001.

Applicants: Columbia Gas Transmission, LLC.

Description: Columbia Gas Transmission, LLC submits tariff filing per 154.205(b): RAM 2022 Amendment to be effective 4/1/2022.

Filed Date: 03/08/2022.

Accession Number: 20220308-5062.

Comment Date: 5 p.m. ET 3/21/22.

Docket Numbers: RP22-654-001.

Applicants: Columbia Gas Transmission, LLC.

Description: Columbia Gas Transmission, LLC submits tariff filing per 154.205(b): CCRM 2022—MCRM Amendment Filing to be effective 4/1/2022.

Filed Date: 03/08/2022.

Accession Number: 20220308-5052.

Comment Date: 5 p.m. ET 3/21/22.

Docket Numbers: RP20-1060-008.

Applicants: Columbia Gas Transmission, LLC.

Description: Compliance filing: Settlement Compliance Filing RP20-1060 et al. to be effective 2/25/2022.

Filed Date: 3/8/22.

Accession Number: 20220308-5016.

Comment Date: 5 p.m. ET 3/21/22.

Any person desiring to protest in any of the above proceedings must file in accordance with Rule 211 of the Commission's Regulations (18 CFR 385.211) on or before 5:00 p.m. Eastern time on the specified Comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2022.
Debbie-Anne A. Reese,
Deputy Secretary.

[FR Doc. 2022-05421 Filed 3-14-22; 8:45 am]

BILLING CODE 6717-01-P